DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its fifty-second meeting.

Name: National Advisory Committee on Rural Health and Human Services.

Dates and Times: September 28, 2006, 2 p.m.-5:30 p.m.; September 29, 2006, 8:30 a.m.-4:30 p.m.; September 30, 2006, 9 a.m.-10:30 a.m.

Place: Center for Rural Health, University of North Dakota, 501 N. Columbia Rd., Grand Forks, North Dakota 58203; Holiday Inn Grand Forks, 1210 N 43rd Street, Grand Forks, North Dakota 58203; Spirit Lake Casino and Resort, 7889 Highway 57, St. Michael, North Dakota 58370, Phone: 701-766-4747.

Status: The meeting will be open to the public.

Purpose: The National Advisory Committee on Rural Health and Human Services provides advice and recommendations to the Secretary with respect to the delivery, research, development and administration of health and human services in rural areas.

Agenda: Thursday afternoon, September 28, at 2 p.m., a press conference with be held with the Chairperson of the Committee, the Honorable David Beasley. The meeting will begin at 2:30 p.m., at the University of North Dakota, with opening remarks by the Honorable David Beasley. Introductions will be made by Mary Wakefield, Associate Dean for Rural Health and Director of the Center for Rural Health at the University of North Dakota and Charles Kupchella, President of the University of North Dakota. This will be followed by a brief history of North Dakota by Mike Jacobs (invited speaker), editor of the Grand Forks Herald, and an overview of rural health innovation by Bruce Gjovig with the Center for Innovation and Rural Technology Center. The next session will be an overview of the Rural Assistance Center by Kristine Sande. The final session of the day will be a discussion on the purpose of the site visits and future agenda setting led by the Honorable David Beasley and Tom Morris, Committee Executive Secretary. The Thursday meeting will close at 5:30 p.m.

Friday morning, September 29, at 8:30 a.m., the Committee will convene at the Holiday Inn Grand Forks, Grand Forks, North Dakota. The meeting will begin with an explanation of the day and an overview of the site visits. At 9 a.m., the Committee will break into subcommittee format for the site visits. At 9:15 a.m., the Medicare Advantage Subcommittee will depart for Mercy Hospital in Devils Lake, North Dakota. Also, at 9:15 a.m., the Head Start Subcommittee will depart for the Early Explorers Head Start Program in Devils Lake, North Dakota. The Substance Abuse Subcommittee will depart for the Center for Solutions, Towner County Medical Center in Cando, North Dakota, at 9:30 a.m. Transportation to these sites will not be provided. The Subcommittees will return to Spirit Lake Casino and Resort in St. Michael, North Dakota, for the remainder of the meeting. The Subcommittees will meet at 2:15 p.m. to discuss the site visits. The Committee of the whole will reconvene at 3:30 p.m. for a discussion of the 2007 report topics. The Friday meeting will close at 4:30 p.m.

The final session will be convened Saturday morning, September 30, at 9 a.m. The Committee will review the discussion of the 2007 Workplan, have updates on the Subcommittee site visits and discuss the letter to the Secretary. The meeting will be adjourned at 10:30 a.m.

For Further Information Contact: Anyone requiring information regarding the Committee should contact Tom Morris, M.P.A., Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray-Gibson, Office of Rural Health Policy (ORHP), Telephone (301) 443-0835. The Committee meeting agenda will be posted on ORHP's Web site http://www.ruralhealth.hrsa.gov.

Dated: August 28, 2006.
Cheryl R. Dammons,
Director, Division of Policy Review and Coordination.

[FR Doc. E6-14587 Filed 9-1-06; 8:45 am]

BILLING CODE 4165-15-P